DEPARTMENT OF COMMERCE

International Trade Administration

[C-533-844]

Certain Lined Paper Products From India: Final Results of Changed Circumstances Review

AGENCY: Enforcement and Compliance, International Trade Administration, Department of Commerce.

SUMMARY: On July 3, 2014, the Department of Commerce (the Department) published its notice of initiation and preliminary results of a changed circumstances review (CCR) of the countervailing duty order on certain lined paper products from India.¹ The Department preliminarily determined that Navneet Education Limited (Navneet Education) is the successor-in-interest to Navneet Publications (India) Ltd. (Navneet Publications). No parties submitted comments. For these final results we continue to find that Navneet Education is the successor-in-interest to Navneet Publications.

¹ See Certain Lined Paper Products from India: Notice of Initiation and Preliminary Results of Changed Circumstances Review, 79 FR 38011 (July 3, 2014) (Preliminary Results); Notice of Amended Final Determination of Sales at Less Than Fair Value: Certain Lined Paper Products from the People's Republic of China; Notice of Antidumping Duty Orders: Certain Lined Paper Products from India, Indonesia and the People's Republic of China; and Notice of Countervailing Duty Orders: Certain Lined Paper Products from India and Indonesia, 71 FR 56949 (September 28, 2006) (CLPP Order).

DATES: Effective October 1, 2014.

FOR FURTHER INFORMATION CONTACT: John Conniff, AD/CVD Operations, Office III, Enforcement and Compliance, International Trade Administration, U.S. Department of Commerce, 14th Street and Constitution Avenue NW., Washington, DC 20230; telephone: 202/482-1009.

SUPPLEMENTARY INFORMATION:

Background

On October 17, 2013, Navneet Education submitted a request for a CCR asking the Department to find that Navneet Education is the successor-in-interest to Navneet Publications.² On May 16, 2014, Navneet Education submitted a revised CCR request updating the period covered by the original CCR request for purposes of determining countervailing duties liability as a result of the CLPP Order.³ On July 3, 2014, the Department published its Preliminary Results, in which it preliminarily determined that Navneet Education is the successor-in-interest to Navneet Publications for purposes of the Department's countervailing duty proceeding on certain lined paper products from India.⁴ The Department invited interested parties to comment on the Preliminary Results.⁵ We received no comments or requests for a hearing from interested parties.

² See Navneet Education's March 17, 2014, letter to the Department, Request for Changed Circumstances Review Navneet Publications (India) Ltd. (CCR Request) at 2.

³ See CLPP Order; Navneet Education's May 16, 2014, submission (Second Supplemental Filing).

⁴ See Preliminary Results, 79 FR at 38011.

⁵ Id.

Scope of the Order

The merchandise covered by the CLPP Order is certain lined paper products, typically school supplies (for purposes of this scope definition, the actual use of or labeling these products as school supplies or non-school supplies is not a defining characteristic) composed of or including paper that incorporates straight horizontal and/or vertical lines on ten or more paper sheets (there shall be no minimum page requirement for looseleaf filler paper). The products are currently classified under the following Harmonized Tariff Schedule of the United States (HTSUS) subheadings: 4811.90.9035, 4811.90.9080, 4820.30.0040, 4810.22.5044, 4811.90.9050, 4811.90.9090, 4820.10.2010, 4820.10.2020, 4820.10.2030, 4820.10.2040, 4820.10.2050, 4820.10.2060, and 4820.10.4000. Although the HTSUS numbers are provided for convenience and customs purposes, the written product description remains dispositive.⁶

⁶ For a complete description of the scope of the CLPP Order, see the Preliminary Results.

Final Results of Changed Circumstances Review

Because no parties submitted comments opposing the Department's Preliminary Results, and because there is no other information or evidence on the record that calls into question the Preliminary Results, the Department continues to find that Navneet Education is the successor-in-interest to Navneet Publications for the purpose of determining countervailing duty liability.

Instructions to U.S. Customs and Border Protection

As a result of this determination, we find that Navneet Education should retain the cash deposit rate previously assigned to Navneet Publications (i.e., the 8.76 percent cash deposit rate currently assigned to Navneet Publications) in the most recently completed review of the countervailing duty order on certain lined paper products from India for Navneet Publications.⁷ However, because cash deposits are only estimates of the amount of countervailing duties to be assessed, changes in cash deposit rates are not made retroactively.⁸ Therefore, as stated in the Preliminary Results, no retroactive change will be made to Navneet Education's cash deposit rate, as Navneet Education requested.⁹ Consequently, the Department will instruct U.S Customs and Border Protection to collect estimated countervailing duties for all shipments of subject merchandise exported by Navneet Education and entered, or withdrawn from warehouse, for consumption on or after the publication date of this notice in the Federal Register at the current cash deposit rate for Navneet Publications. This cash deposit requirement shall remain in effect until further notice.

⁷ See Certain Lined Paper Products From India: Final Results of Countervailing Duty Administrative Review, 74 FR 6573, 6574 (February 10, 2009).

⁸ See Notice of Initiation and Preliminary Results of Antidumping Duty Changed Circumstances Review: Certain Frozen Warmwater Shrimp from India, 77 FR 64953, 64955 (October 24, 2012), unchanged in final, Final Results of Antidumping Duty Changed Circumstances Review: Certain Frozen Warmwater Shrimp From India, 77 FR 73619, December 11, 2012; see also Certain Hot-Rolled Lead and Bismuth Carbon Steel Products From the United Kingdom: Final Results of Changed-Circumstances Antidumping and Countervailing Duty Administrative Reviews, 64 FR 66880, 66881 (November 30, 1999).

⁹ Navneet Education argued that the determination as successor-in-interest should be made effective as of the date of the name change, i.e., September 30, 2013. See CCR Request at 8 and see Preliminary Results, 79 FR at 38012.

Notification

This notice serves as a reminder to parties subject to administrative protective order (APO) of their responsibility concerning the disposition of proprietary information disclosed under APO in accordance with 19 CFR 351.306. Timely written notification of the return/destruction of APO materials or conversion to judicial protective order is hereby requested. Failure to comply with the regulations and terms of an APO is a sanctionable violation.

This notice is published in accordance with sections 751(b)(1) and 777(i) of the Tariff Act of 1930, as amended, and 19 CFR 351.216(e).

Dated: September 25, 2014.
Paul Piquado,
Assistant Secretary for Enforcement and Compliance.

[FR Doc. 2014-23412 Filed 9-30-14; 8:45 am]

BILLING CODE 3510-DS-P